NUCLEAR REGULATORY COMMISSION

[NRC-2011-0150; Docket Nos. 50-003, 50-247, and 50-286; License Nos. DPR-5, DPR-26, and DPR-64]

Entergy Nuclear Indian Point 2, LLC, Entergy Nuclear Indian Point 3, LLC, Entergy Nuclear Operations, Inc.; Receipt of Request for Action

Notice is hereby given that by petition dated March 28, 2011, Eric T. Schneiderman, Attorney General for the State of New York, the petitioner, has asked the U.S. Nuclear Regulatory Commission (NRC) to take enforcement action against Entergy Nuclear Operations, Inc. (Entergy), and its affiliates for violations of the agency's 1980 fire safety regulations at Indian Point Nuclear Generating Unit 1, 2, and 3. The petitioner asked the NRC to take immediate action by issuing an order that requires the following actions:

• Identify the violations of paragraphs F and G of Section III of Appendix R, “Fire Protection Program for Nuclear Power Facilities Operating prior to January 1, 1979,” to Title 10 of the Code of Federal Regulations (10 CFR) part 50, “Domestic Licensing of Production and Utilization Facilities,” that exist as of the date of the petition (i.e., March 28, 2011) at Indian Point Units 1, 2, and 3.

• Compel Entergy and its affiliates to comply on or before September 20, 2011, with the requirements in paragraphs F and G for all the fire zones in Indian Point Units 2 and 3 and any Indian Point Unit 1 fire zone or system, structure, or component relied on by Indian Point Units 2 and 3.

• Convene an evidentiary hearing before the Commission to adjudicate the violations by Entergy and its affiliates of paragraphs F and G at Indian Point Units 1, 2, and 3.

As the basis for the request, the petitioner stated, in part, the following:

• The petitioner cited the population centers adjacent to the Indian Point facility. The petitioner described past investigations by both the NRC Office of Investigations and the Government Accountability Office on fire barriers, most specifically Thermo-Lag and Hemyc. The petitioner implied that the NRC staff has not been aggressive in resolving fire barrier issues or in taking meaningful enforcement action toward Indian Point.

• The petitioner focused on the exemptions to Appendix R to 10 CFR Part 50 that the licensee submitted in March 2009. The exemptions include operator manual actions in a large number of fire areas at Indian Point. The petitioner stated that the regulations do not authorize operator manual actions as a means for protecting a redundant system from fire. The petitioner referenced the ongoing situation in Japan and questioned whether plant operators would be physically able to perform these duties.

• The petitioner stated that (1) the NRC should reserve exemptions for extraordinary circumstances, (2) the NRC should not approve the exemptions, and (3) Entergy has not made a serious effort to comply with Federal regulations.

The NRC is treating the request under 10 CFR 2.206, “Requests for Action under This Subpart,” and has referred the request to the Director of the Office of Nuclear Reactor Regulation (NRR). In accordance with 10 CFR 2.206, the NRC will take appropriate action on this petition within a reasonable period of time. The petitioner met with the NRR Petition Review Board on May 9, 2011, to discuss the petition. The Petition Review Board considered the results of that discussion in its determination of the petitioner's request for immediate action and in the establishment of the schedule for the review of the petition. A copy of the petition is available for inspection at the NRC's Public Document Room (PDR) located at One White Flint North, Public File Area O1 F21, 11555 Rockville Pike (first floor), Rockville, MD. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR reference staff by telephone at 1-800-397-4209 or 301-415-4737 or by e-mail at PDR.Resources@nrc.gov.

Dated at Rockville, Maryland, this 30th day of June 2011.
For the Nuclear Regulatory Commission.
Eric J. Leeds,
Director, Office of Nuclear Reactor Regulation.

[FR Doc. 2011-17438 Filed 7-11-11; 8:45 am]

BILLING CODE 7590-01-P